DEPARTMENT OF ENERGY

Federal Energy Regulatory Commission

Notice of Application for Transfers of Licenses and Soliciting Comments, Motions To Intervene, and Protests

May 19, 2000.

Take notice that the following hydroelectric application has been filed with the Commission and is available for public inspection:

a. Application Type: Transfers of Licenses.

b. Project Nos: 2343-041, 2516-018, and 2517-004.

c. Date Filed: May 5, 2000.

d. Applicants: Potomac Edison Company, PE Transferring Agent, L.L.C. (to be formed), PE Genco (to be formed), and Allegheny Energy Supply Company, L.L.C.

e. Names and Locations of Projects: The Millville Project is on the Shenandoah River in Jefferson County, West Virginia and the Dam No. 4 and Dam No. 95. Hydro Stations are on the Potomac River in Berkeley County, West Virginia. The projects do not occupy federal or tribal lands.

f. Filed Pursuant to: Federal Power Act, 16 U.S.C. 791(a)-825(r).

g. Applicant Contacts: Mr. David C. Benson, Allegheny Energy Supply, RR 12, Box 1000, Roseytown Road, Greensburg, PA 15601, (724) 853-3790, and Mr. John A. Whittaker, IV, Winston & Strawn, 1400 L Street, NW, Washington, DC 20005, (202) 371-5766.

h. FERC Contact: Any questions on this notice should be addressed to James Hunter at (202) 219-2839.

i. Deadline for filing comments and or motions: June 14, 2000.

All documents (original and eight copies) should be filed with: David P. Boergers, Secretary, Federal Energy Regulatory Commission, 888 First Street, NE, Washington DC 20426.

Please include the noted project numbers on any comments or motions filed.

j. Description of Proposal: Applicants propose transfers of the licenses for these three projects from Potomac Edison Company to PE Transferring Agency, L.L.C., a soon-to-be-formed wholly-owned subsidiary of Potomac Edison; then to a yet-to-be-formed-and-named affiliate of Potomac Edison, referred to as PE Genco; and finally to Allegheny Energy Supply Company, L.L.C. Transfer is being sought as part of an intra-corporate reorganization of Potomac Edison's parent company, Allegheny Energy, Inc.

The transfer application was filed within five years of the expiration of the licenses for Project Nos. 2516 and 2517. In Hydroelectric Relicensing Regulations Under the Federal Power Act (54 Fed. Reg. 23,756; FERC Stat. and Regs., Regs. Preambles 1986-1990 30,854 at p. 31,437), the Commission declined to forbid all license transfers during the last five years of an existing license, and instead indicated that it would scrutinize all such transfer requests to determine if the transfer's primary purpose was to give the transferee an advantage in relicensing (id. at p. 31,438 n. 318).

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “Comments”, “Recommendations for Terms and Conditions”, “Protest”, or “Motion to Intervene” as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-13110 Filed 5-24-00; 8:45 am]

BILLING CODE 6717-01-M